GENERAL SERVICES ADMINISTRATION

[GSA Bulletin FTR 11-06; Docket 2011-0002; Sequence 2]

Maximum Per Diem Rates for the States of California, Mississippi, New York, Pennsylvania, Texas, and Virginia

AGENCY: Office of Governmentwide Policy, General Services Administration (GSA).

ACTION: Notice of Per Diem Bulletin 11-06, revised continental United States (CONUS) per diem rates.

SUMMARY: The General Services Administration (GSA) has conducted its mid-year review and has determined that the per diem rates for certain locations in the States of California, Mississippi, New York, Pennsylvania, Texas, and Virginia are inadequate.

DATES: This notice is effective April 1, 2011, and applies for travel performed on or after April 1, 2011, through September 30, 2011.

FOR FURTHER INFORMATION CONTACT: For clarification of content, contact Ms. Jill Denning, Office of Governmentwide Policy, Travel Management Policy, at (202) 208-7642. Please cite FTR Per Diem Bulletin 11-06.

SUPPLEMENTARY INFORMATION:

A. Background

After an analysis of the per diem rates established for FY 2011 (see the Federal Register notice at 75 FR 52947, August 30, 2010, and FTR Bulletin 11-01), non-standard area per diem rates are being established or changed for the following locations:

State of California

• San Bernadino County

• San Francisco County

State of Mississippi

• Lafayette County

State of New York

• Bronx, New York, Kings, Queens, and Richmond Counties

State of Pennsylvania

• Dauphin County

State of Texas

• Hunt County

State of Virginia

• Caroline County

Per diem rates are published on the Internet at http://www.gsa.gov/perdiem as FTR per diem bulletins. This process ensures timely notice of increases or decreases in per diem rates established by GSA for Federal employees on official travel within CONUS. Notices published periodically in the Federal Register, such as this one, now constitute the only notification of revisions in CONUS per diem rates to agencies.

Dated: March 15, 2011.
Robert Holcombe,
Program Director, Office of Travel, Transportation and Asset Management.

[FR Doc. 2011-6659 Filed 3-21-11; 8:45 am]

BILLING CODE 6820-14-P